DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce.

ACTION: Notice of public comment period for the Revised Management Plan for the Jacques Cousteau National Estuarine Research Reserve.

SUMMARY: Notice is hereby given that the Estuarine Reserves Division, Office of Ocean and Coastal Resource Management, National Ocean Service, National Oceanic and Atmospheric Administration (NOAA), U.S. Department of Commerce is announcing a thirty-day public comment period on the Jacques Cousteau National Estuarine Research Reserve Management Plan Revision.

The Jacques Cousteau National Estuarine Research Reserve was designated in 1998 pursuant to section 315 of the Coastal Zone Management Act of 1972, as amended, 16 U.S.C. 1461. The reserve has been operating in partnership with the Institute of Marine and Coastal Sciences of Rutgers, the State University of New Jersey under a management plan approved in 1997. Pursuant to 15 CFR 921.33(c), a state must revise its management plan at least every five years. The submission of this plan fulfills this requirement and sets a course for successful implementation of the goals and objectives of the reserve. A previous draft of the management plan revision was made available for public comment on August 13, 2009, in the Federal Register (Vol. 74, No. 155, Pages 40814-5), which considered the addition of new components in Monmouth and Cumberland Counties to the Tuckerton-based reserve (pages 57 and 69 of draft management plan). References to a multi-component reserve have been removed and a revised version of the draft management plan is available for a new thirty-day public comment period.

FOR FURTHER INFORMATION CONTACT: Michael Migliori at (301) 563-1126 or Laurie McGilvray at (301) 563-1158 of NOAA's National Ocean Service, Estuarine Reserves Division, 1305 East-West Highway, N/ORM5, 10th floor, Silver Spring, MD 20910. For copies of the Jacques Cousteau Management Plan revision, visit http://www.jcnerr.org/.

Dated: October 30, 2009.
Donna Wieting,
Acting Director, Office of Ocean and Coastal Resource Management, National Oceanic and Atmospheric Administration.

[FR Doc. E9-26587 Filed 11-3-09; 8:45 am]

BILLING CODE 3510-08-P